DEPARTMENT OF VETERANS AFFAIRS

Research Advisory Committee on Gulf War Illnesses; Notice of Meeting

The Department of Veterans Affairs (VA) gives notice under Public Law 92-463 (Federal Advisory Committee Act) that the Research Advisory Committee on Gulf War Veterans' Illnesses will meet on October 25-26, 2004, at the Department of Veterans Affairs, 811 Vermont Avenue, NW., Room 819, Washington, DC. The session on October 25 will convene at 8 a.m. and adjourn at 5 p.m. The session on October 26 will convene at 8 a.m. and adjourn at 3 p.m. Both sessions will be open to the public.

The purpose of the Committee is to provide advice and make recommendations to the Secretary of Veterans Affairs on proposed research studies, research plans and research strategies relating to the health consequences of military service in the Southwest Asia theater of operations during the Gulf War.

The Committee will review VA program activities related to Gulf War veterans' illnesses. The Committee will also hear presentations on data collection related to exposures and troop locations during the 1991 Gulf War and the current deployments in Iraq. There will be an update on scientific research on Gulf War illnesses published since the lost committee meeting. Additionally there will be preliminary information on treatment research for Gulf War illnesses, research related to possible health effects of exposure to oil well fires and other combustible petroleum products during the 1991 Gulf War, and discussion of committee business and activities.

Members of the public may submit written statements for the Committee's review to Ms. Preeti Hans, Designated Federal Officer, Department of Veterans Affairs, 810 Vermont Avenue, NW., Washington, DC 20420. Any member of the public seeking additional information should contact Ms. Preeti Hans at (202) 254-0223.

Dated: September 28, 2004.
By Direction of the Secretary.
E. Philip Riggin,
Committee Management Officer.

[FR Doc. 04-22439 Filed 10-6-04; 8:45 am]

BILLING CODE 8320-01-M